DEPARTMENT OF TRANSPORTATION

Surface Transportation Board

[Docket No. FD 35730]

Ballard Terminal Railroad Company, L.L.C.—Lease Exemption—Line of Eastside Community Rail, LLC

Ballard Terminal Railroad Company, L.L.C. (Ballard), a Class III rail carrier, has filed a verified notice of exemption under 49 CFR 1150.41 to lease from Eastside Community Rail, LLC (ECRR) and to operate a 14.45-mile line of railroad between milepost 23.8 in Woodinville, Wash., and milepost 38.25 in Snohomish, Wash. (the Line).¹ Ballard states that it currently operates the Line under an agency relationship/interim operating agreement with ECRR.

¹ Concurrently with the verified notice of exemption, Ballard submitted two petitions concerning an adjacent segment between milepost 23.8 in Woodinville and milepost 12.6 in Bellevue, Wash. (the adjacent segment), currently owned by the City of Kirkland and the Port of Seattle in King County, Wash. Specifically, in Docket No. AB 6 (Sub-No. 465X), Ballard asks the Board to partially vacate the Notice of Interim Trail Use or Abandonment (NITU) issued by the Board for the adjacent segment in BNSF Railway Co.—Abandonment Exemption—In King County, Wash., AB 6 (Sub-No. 465X) (STB served Nov. 28, 2008). Also, in Docket No. FD 35731, Ballard has filed a petition for exemption pursuant to 49 U.S.C. 10502 to acquire the residual common carrier rights and obligations, including the right to reinstitute rail service, over the adjacent segment. Ballard seeks to acquire the physical trackage assets of the adjacent segment and to resume providing common carrier rail service over this trackage. These filings will be addressed by the Board in subsequent decisions.

Ballard has certified that its projected annual revenue as a result of this transaction will not result in Ballard's becoming a Class II or Class I rail carrier, and that its projected annual revenue will not exceed $5 million.

The transaction is expected to be consummated on or after May 2, 2013, the effective date of the exemption (30 days after the notice of exemption was filed).

If the verified notice contains false or misleading information, the exemption is void ab initio. Petitions to revoke the exemption under 49 U.S.C. 10502(d) may be filed at any time. The filing of a petition to revoke will not automatically stay the effectiveness of the exemption. Petitions for stay must be filed by April 25, 2013 (at least seven days before the exemption becomes effective).

An original and 10 copies of all pleadings, referring to Docket No. FD 35730, must be filed with the Surface Transportation Board, 395 E Street SW., Washington, DC 20423-0001. In addition, a copy of each pleading must be served on Myles L. Tobin, Fletcher & Sippel LLC, 29 North Wacker Drive, Suite 920, Chicago, IL 60606-2832.

Board decisions and notices are available on our Web site at “www.stb.dot.gov.”

Decided: April 12, 2013.
By the Board, Rachel D. Campbell, Director, Office of Proceedings.
Jeffrey Herzig,
Clearance Clerk.

[FR Doc. 2013-09218 Filed 4-17-13; 8:45 am]

BILLING CODE 4915-01-P